DEPARTMENT OF TRANSPORTATION

Surface Transportation Board

[Ex Parte No. 333]

Meetings of the Board

Time and Date: 10 a.m., Thursday, January 30, 2003.

Place: The Board's Hearing Room, Surface Transportation Board, 1925 K Street, NW., Washington, DC 20423.

Status: The Board will meet to discuss among themselves the following agenda items. Although the conference is open for public observation, no public participation is permitted.

Matters to be Considered: STB Finance Docket No. 34178, Dakota, Minnesota & Eastern Railroad Corporation and Cedar American Rail Holding, Inc.—Control—Iowa, Chicago & Eastern Railroad Corporation.

STB Finance Docket No. 33697, National Railroad Passenger Corporation—Petition for Declaratory Order—Weight of Rail. STB Finance Docket No. 33995, SF&L Railway, Inc.—Acquisition and Operation Exemption—Toledo, Peoria and Western Railway Corporation Between La Harpe and Peoria, IL.

STB Finance Docket No. 33996, Kern W. Schumacher and Morris H. Kulmer—Continuance in Control—SF&L Railway, Inc.

STB Docket No. AB-448 (Sub-No. 2X), SF&L Railway, Inc.—Abandonment Exemption—in Hancock, McDonough, Fulton and Peoria Counties, IL.

STB Docket No. AB-565 (Sub-No. 11X), New York Central Lines, LLC—Abandonment Exemption—in Lake County, OH.

STB Docket No. AB-55 (Sub-No. 617X), CSX Transportation, Inc.—Discontinuance of Service Exemption—in Lake County, OH.

STB Finance Docket No. 34114, Yolo Shortline Railroad Company—Lease and Operation Exemption—Port of Sacramento.

STB Finance Docket No. 34304, The Burlington Northern and Santa Fe Railway Company—Trackage Rights Exemption—The Portland & Western Railroad, Inc.

STB Ex Parte No. 282 (Sub-No. 20), Railroad Consolidation Procedures—Exemption for Temporary Trackage Rights.

Contact Person for More Information: A. Dennis Watson, Office of Congressional and Public Services, Telephone: (202)565-1596, FIRS:1-800-877-8339.

Dated: January 22, 2003.
Vernon A. Williams,
Secretary.

[FR Doc. 03-1889 Filed 1-23-03; 12:30 pm]

BILLING CODE 4915-00-P